ENVIRONMENTAL PROTECTION AGENCY

40 CFR Part 139

[EPA-HQ-OW-2019-0482; FRL-10016-34-OW]

RIN 2040-AF92

Vessel Incidental Discharge National Standards of Performance; Public Meetings

AGENCY: Environmental Protection Agency (EPA).

ACTION: Notification.

SUMMARY: The Environmental Protection Agency (EPA) is announcing three virtual public meetings on its proposed rulemaking Vessel Incidental Discharge National Standards of Performance. The proposed rulemaking promulgated under the Vessel Incidental Discharge Act (VIDA) of 2018 was published in the Federal Register on October 26, 2020. The three virtual public meetings will be held in November 2020 to provide a brief background on the rulemaking, identify key changes from existing federal requirements, and describe how to submit comments on the proposed rulemaking. More information on the proposed standards and the directions for meeting proceedings are available on the EPA web page at https://www.epa.gov/vessels-marinas-and-ports/vessel-incidental-discharge-act-vida-engagement-opportunities.

DATES: The Agency will hold virtual public meetings on November 9, 10, and 17, 2020. Please refer to the SUPPLEMENTARY INFORMATION section for additional information on the public meetings.

ADDRESSES: EPA will be holding the public meetings virtually. Please register for the public meetings through the following link: https://register.gotowebinar.com/register/6377760488136984080.

Documents related to the proposal are available for public inspection through the Federal eRulemaking Portal: https://www.regulations.gov, Docket ID No. EPA-HQ-OW-2019-0482.

FOR FURTHER INFORMATION CONTACT: Juliette Chausson, Water Division, Environmental Protection Agency Region 9; telephone number: (415) 972-3440; email address: chausson.juliette@epa.gov.

SUPPLEMENTARY INFORMATION:

I. Background

The U.S. Environmental Protection Agency (EPA) has published for public comment a proposed rulemaking under the Vessel Incidental Discharge Act (VIDA) that would establish national standards of performance for marine pollution control devices for discharges incidental to the normal operation of primarily non-military and non-recreational vessels 79 feet in length and above into the waters of the United States or the waters of the contiguous zone. The proposed standards can be found in the Federal Register at 85 FR 67818, October 26, 2020. The proposed national standards of performance were developed in coordination with the U.S. Coast Guard (USCG) and in consultation with interested Governors. The proposed standards, once finalized and implemented through corresponding USCG regulations addressing implementation, compliance, and enforcement, would reduce the discharge of pollutants from vessels and streamline the current patchwork of federal, state, and local vessel discharge requirements. Additionally, EPA is proposing procedures for states to follow if they choose to petition EPA to issue an emergency order, to review any standard of performance, regulation, or policy, to request additional requirements with respect to discharges in the Great Lakes, or to apply to EPA to prohibit one or more types of vessel discharges proposed for regulation in this rulemaking into specified waters to provide greater environmental protection.

II. Meeting Information

EPA will be hosting three virtual public meetings on these proposed standards to provide a brief background on the rulemaking, identify key changes from existing federal requirements, and describe how to submit comments on the proposed rulemaking to EPA.

Registration for the public meetings is available at https://register.gotowebinar.com/register/6377760488136984080. More information on the proposed standards and the directions for meeting proceedings are available on the EPA web page at https://www.epa.gov/vessels-marinas-and-ports/vessel-incidental-discharge-act-vida-engagement-opportunities.

The schedule for the virtual public meetings is as follows:

1. November 9, 2020, 2 p.m. to 4 p.m. EST.

2. November 10, 2020, 10 a.m. to 12 p.m. EST.

3. November 17, 2020, 12 p.m. to 2 p.m. EST.

If you require special accommodations, please contact Juliette Chausson at chausson.juliette@epa.gov or call (415) 972-3440 to make arrangements.

John T. Goodin,
Director, Office of Wetlands, Oceans and Watersheds, Office of Water.

[FR Doc. 2020-24778 Filed 11-17-20; 8:45 am]

BILLING CODE 6560-50-P